FEDERAL TRADE COMMISSION

Agency Information Collection Activities; Proposed Collection; Comment Request; Extension

AGENCY: Federal Trade Commission.

ACTION: Notice.

SUMMARY: The Federal Trade Commission (“FTC” or “Commission”) is seeking public comments on its proposal to extend for an additional three years the current Paperwork Reduction Act (“PRA”) clearance for information collection requirements contained in the Red Flags, Card Issuers, and Address Discrepancy Rules (“Rules”). That clearance expires on January 31, 2025.

DATES: Comments must be filed by October 21, 2024.

ADDRESSES: Interested parties may file a comment online or on paper, by following the instructions in the Request for Comment part of the SUPPLEMENTARY INFORMATION section below. Write “Red Flags, Card Issuers, and Address Discrepancy Rules; PRA Comment: FTC File No. P072108” on your comment, and file your comment online at https://www.regulations.gov by following the instructions on the web-based form. If you prefer to file your comment on paper, mail your comment to the following address: Federal Trade Commission, Office of the Secretary, 600 Pennsylvania Avenue NW, Suite CC-5610 (Annex J), Washington, DC 20580.

FOR FURTHER INFORMATION CONTACT: Whitney Moore, Attorney, Division of Division of Privacy and Identity Protection, Bureau of Consumer Protection, Federal Trade Commission, Mail Code CC-8232, 600 Pennsylvania Avenue NW, Washington, DC 20580, (202) 326-2645.

SUPPLEMENTARY INFORMATION:

Title of Collection: Red Flags Rule, 16 CFR 681.1; Card Issuers Rule, 16 CFR 681.2; Address Discrepancy Rule, 16 CFR part 641.

OMB Control Number: 3084-0137.

Type of Review: Extension of currently approved collection.

Estimated Number of Respondents: 238,942 (165,494 for Red Flags Rule + 18,500 for Card Issuers Rule + 54,948 for Address Discrepancy Rule).

Estimated Annual Burden Hours: 398,479 hours (358,124 hours for Red Flags Rule + 18,608 hours for Card Issuers Rule + 21,747 hours for Address Discrepancy Rule).

Estimated Annual Labor Costs: $22,350,652 ($21,850,471 for Red Flags and Card Issuers Rule + $500,181 for Address Discrepancy Rule).

Estimated Annual Non-Labor Costs: $0.

As required by section 3506(c)(2)(A) of the PRA, 44 U.S.C. 3506(c)(2)(A), the FTC is providing this opportunity for public comment before requesting that OMB extend the existing clearance for the information collection requirements contained in the Commission's Rules.

A. Overview of the Rules

I. FACT Act Section 114

The FTC Red Flags and Card Issuers Rules implement requirements under Section 114 of the Fair and Accurate Credit Transactions Act of 2003, which is also commonly referred to as the FACT Act.¹

¹ Fair and Accurate Credit Transactions Act of 2003, Public Law 108-159, 117 Stat. 1952 (2003) (codified at 15 U.S.C. 1681-1681x). The FACT Act added the red flags and card issuer requirements to the Fair Credit Reporting Act, 15 U.S.C. 1681m(e)(1). On December 11, 2018, the Commission initiated periodic review of the Red Flags and Card Issuers Rules. 83 FR 63604 (Dec. 11, 2018). The public comment period closed on February 11, 2019.

The Red Flags Rule requires financial institutions and covered creditors to develop and implement a written Program to detect, prevent, and mitigate identity theft in connection with existing accounts or the opening of new accounts (the “Program”). Under the Rule, financial institutions and certain creditors must conduct a periodic risk assessment to determine if they maintain “covered accounts.” The Red Flags Rule defines the term “covered account” as either: (1) a consumer account that is designed to permit multiple payments or transactions, or (2) any other account for which there is a reasonably foreseeable risk of identity theft.

Under the Red Flags Rule, each financial institution and covered creditor that has covered accounts must create a written Program that contains reasonable policies and procedures to: (1) identify relevant indicators of the possible existence of identity theft (“red flags”); (2) detect red flags that have been incorporated into the Program; (3) respond appropriately to any red flags that are detected to prevent and mitigate identity theft; and (4) update the Program periodically to ensure it reflects change in risks to customers. Additionally, the Red Flags Rule requires financial institutions and covered creditors to: (1) obtain approval of the initial written Program by the board of directors; a committee thereof; or, if there is no board, an appropriate senior employee; (2) ensure oversight of the development, implementation, and administration of the Program; and (3) exercise appropriate and effective oversight of service provider arrangements.

The Card Issuers Rule generally requires debit and credit card issuers, which include state-chartered credit unions, retailers, and certain universities, businesses, and telecommunications companies, to assess the validity of change of address notifications. Specifically, if the card issuer receives a notice of change of address for an existing account and, within a short period of time (during at least the first thirty days), receives a request for an additional or replacement card for the same account, the issuer must follow reasonable policies and procedures to assess the validity of the change of address.

II. FACT Act Section 315

The Address Discrepancy Rule, which implements section 315 of the FACT Act, requires each user of consumer reports to have reasonable policies and procedures in place to employ when the user receives a notice of address discrepancy from a consumer reporting agency (“CRA”).² Specifically, each user must develop reasonable policies and procedures to: (1) enable the user to form a reasonable belief that a consumer report relates to the consumer about whom it has requested the report; and (2) in certain circumstances, provide to the CRA from which it received the notice an address for the consumer that the user has reasonably confirmed is accurate.

² The FACT Act added the address discrepancy requirement to the Fair Credit Reporting Act, 15 U.S.C. 1681c(h). On September 17, 2021, the Commission announced revisions to the Address Discrepancy Rule, but the revisions did not affect the burden to covered entities. See 86 FR 51817 (Sept. 17, 2021).

B. Burden Statement

I. Estimated Annual Burden Hours: 398,479 Hours

1. Red Flags Rule: 358,124 Hours.

Affected Public: Utilities; motor vehicle dealerships; telecommunications firms; colleges and universities; hospitals; nursing homes; public warehouse and storage firms; fuel dealers; financial transaction processing firms; certain creditors; ³ and other categories of persons that qualify as financial institutions.⁴

³ 15 U.S.C. 1681m(e)(4).

⁴ This analysis focuses on the categories described in this notice, but the Commission welcomes comments on whether there are other categories of creditors or financial institutions that should be included in the burden analysis.

The Red Flags Rule requires financial institutions and certain creditors with covered accounts to develop and implement a written Program and report to the board of directors, a committee thereof, or senior management at least annually on compliance with the Rule. Under the Rule, a “financial institution” is “a State or National bank, a State or Federal saving and loan association, a mutual savings bank, a State or Federal credit union, or any other person that, directly or indirectly, holds a transaction account (as defined in section 19(b) of the Federal Reserve Act, 12 U.S.C. ch. 3) belonging to a consumer.” ⁵

⁵ The Red Flags Rule refers to the definition of “financial institution” in the Fair Credit Reporting Act, 15 U.S.C. 1681a(t).

The Red Flags Rule applies to certain “creditors” as defined in section 702 of the Equal Credit Opportunity Act (“ECOA”) ⁶ that use consumer reports, furnish information to consumer reporting agencies, or advance funds.⁷ As a result, many small businesses, service providers, and other persons that would ordinarily satisfy the ECOA definition of “creditor” are excluded from the Red Flags Rule's definition of “creditor.”

⁶ 15 U.S.C. 1681a(r)(5).

⁷ 15 U.S.C. 1681m(e)(4).

Nonetheless, the scope of entities covered by the Red Flags Rule within the FTC's jurisdiction is broad, making it difficult to determine precisely the number of financial institutions and creditors that are subject to the FTC's jurisdiction. There are numerous businesses under the FTC's jurisdiction, and there is no formal way to track them. Moreover, as a whole, the entities under the FTC's jurisdiction are so varied that there are no general sources that provide a record of their existence. Nonetheless, FTC staff estimates that the Red Flag Rule's requirement to have a written Program affects over 6,027 financial institutions ⁸ and 157,564 creditors.⁹

⁸ The total number of financial institutions is derived from an analysis of state credit unions and insurers within the FTC's jurisdiction using 2021 Census data (“County Business Patterns,” U.S.) and other online industry data.

⁹ This figure comprises 157,564 creditors (91,743 high-risk creditors + 65,821 low-risk creditors). The total number of creditors draws from FTC staff analysis of 2021 Census data and industry data for businesses or organizations that market goods and services to consumers or other businesses or organizations subject to the FTC's jurisdiction, excluding entities not likely to (1) obtain credit reports, report credit transactions, or advance loans, and (2) have covered accounts under the Rule. Currently, no further updated Census data is available online to inform revised estimates.

To estimate burden hours for the Red Flags Rule under section 114, FTC staff has divided affected entities into two categories, based on the nature of their businesses: (1) entities that are subject to a high risk of identity theft; ¹⁰ and (2) entities that are subject to a low risk of identity theft.¹¹

¹⁰ In general, high-risk entities include, for example, financial institutions within the FTC's jurisdiction and utilities, motor vehicle dealerships, telecommunications firms, colleges and universities, and hospitals.

¹¹ Low-risk entities have a minimal risk of identity theft, but have covered accounts. These include, for example, public warehouse and storage firms, nursing and residential care facilities, automotive equipment rental and leasing firms, office supplies and stationery stores, fuel dealers, and financial transaction processing firms.

a. High-Risk Entities

FTC staff estimates that, on an annual basis, there are approximately 1,447 new high-risk entities,¹² and there are currently approximately 97,770 existing high-risk entities.¹³ Thus, in order to account for the fact that the number of high-risk entities will most likely increase over the 3-year clearance period, the remainder of this burden analysis relies on the average number of high-risk entities that will be subject to the FTC's jurisdiction over the next three years (99,217).

¹² For the purpose of the 2022 renewal request for this information collection clearance, FTC staff estimated that there were approximately 98,393 existing high-risk entities and approximately 1,447 new high-risk entities. See 86 FR 57425 (Oct. 15, 2021); 87 FR 4239 (Jan. 27, 2022). FTC staff estimates that there are currently 97,770 high-risk entities, which represents a 0.63 percent decrease from the previous estimate. As this decrease is not significant, FTC staff believes that, for the purpose of an approximation, it is appropriate to continue to assume that, each year, there will be approximately 1,447 new high-risk entities.

¹³ This number was derived from the average annual number of existing high-risk entities, taking into account that the new entities from year one will become existing entities in year two and the new entities from year two will become existing entities in year three.

FTC staff estimates that new high-risk entities will each require 25 hours to create and implement a written Program. FTC staff estimates that existing high-risk entities have likely already created and implemented a written Program, but will require an annual recurring burden of one hour. Further, FTC staff estimates that existing high-risk entities have already prepared an annual report and will have an annual recurring burden of one hour to update the report for each year, but that preparation of an annual report will require four hours initially for each new high-risk entity. Finally, FTC staff believes that many of the high-risk entities, as part of their usual and customary business practices, already take steps to minimize losses due to fraud, including employee training. Thus, only relevant staff need to be trained to implement the Program. For example, staff already trained as part of a covered entity's anti-fraud prevention efforts do not need to be re-trained except as incrementally needed. FTC staff estimates that recurring annual training in connection with the implementation of a Program of an existing high-risk entity will require one hour each year, and for new entities will require four hours initially.

Accordingly, FTC staff anticipates that high-risk entities will incur the following burden:

• 1,447 new high-risk entities subject to the FTC's jurisdiction at an average annual burden of 33 hours per entity (including 25 hours to create and implement the Program, plus 4 hours for staff training, plus 4 hours for preparing annual report), for an annual total of 47,751 hours.

• 97,770 existing high-risk entities subject to the FTC's jurisdiction at an average annual burden of 3 hours per entity (including 1 hour to update the Program, plus 1 hour for staff training, plus 1 hour for preparing the annual report), for an annual total of 293,310 hours.

• In total, 99,217 high-risk entities subject to the FTC's jurisdiction, for an annual total of 341,061 hours.

b. Low-Risk Entities

FTC staff estimates that, on an annual basis, there are approximately 456 new low-risk entities, and there are currently approximately 65,821 existing low-risk entities. Thus, in order to account for the fact that the number of low-risk entities will steadily increase over the 3-year clearance period, the remainder of this burden analysis relies on the average number of low-risk entities that will be subject to the FTC's jurisdiction over the next three years (66,277).

FTC staff believes that the burden on low-risk entities to comply with the Rules is minimal. Entities that have a low risk of identity theft, but that have covered accounts, will likely only need a streamlined Program. FTC staff estimates that any such new entities will require one hour to create such a Program. Existing low-risk entities will only have an annual recurring burden of 5 minutes. Training staff of low-risk entities to be attentive to future risks of identity theft and preparing an annual report should require no more than 10 minutes each in an initial year for new low-risk entities. Existing low-risk entities will only have an annual recurring burden of 5 minutes each.

Accordingly, FTC staff anticipates that low-risk entities will incur the following burden:

• 456 new low-risk entities ¹⁴ that have covered accounts subject to the FTC's jurisdiction at an average annual burden of approximately 80 minutes per entity (including 60 minutes to create and implement a streamlined Program, plus ten minutes for staff training and ten minutes for preparing the annual report), for an annual total of 608 hours.

¹⁴ Estimates of new and existing low-risk entities are derived from an analysis of a database of U.S. businesses based on NAICS codes for businesses that market goods or services to consumers or other businesses within the FTC's jurisdiction, reduced further to: (1) those that satisfy the Red Flag Rule's definition of “creditor;” and (2) those that are likely to have covered accounts.

• 65,821 existing low-risk entities ¹⁵ that have covered accounts subject to the FTC's jurisdiction at an average annual burden of approximately 15 minutes per entity (including 5 minutes for updating of streamlined Program, plus 5 minutes for staff training, and 5 minutes for preparing annual report), for an annual total of 16,455 hours.

¹⁵ This number was derived from the average annual number of existing low-risk entities, taking into account that the new entities from year one will become existing entities in year two and the new entities from year two will become existing entities in year three.

• In total, 66,277 low-risk entities subject to the FTC's jurisdiction, for an annual total of 17,063 hours.

c. Combined Annual Burden Hours

Based on the foregoing, FTC staff estimates that the 165,494 entities (99,217 high-risk entities + 66,277 low-risk entities) subject to the Red Flags Rule will incur a total annual burden of 358,124 hours (341,061 hours for high-risk entities + 17,063 hours for low-risk entities).

2. Card Issuers Rule: 18,608 Hours.

Affected Public: State-chartered credit unions; general merchandise stores; colleges and universities; telecommunications firms; and certain “creditors.” ¹⁶

¹⁶ 15 U.S.C. 1681m(e)(4).

The Card Issuers Rule requires credit and debit card issuers to establish policies and procedures to assess the validity of a change of address request, including notifying the cardholder or using another means of assessing the validity of the change of address. FTC staff estimates that there are currently 18,464 credit and debit card issuers under the FTC's jurisdiction, and there are approximately 36 new entrants each year. Thus, in order to account for this annual increase in the number of credit and debit card issuers, FTC staff will assume that, in each year of the 3-year clearance period, there will be a total of 18,500 credit and debit card issuers, which represents the average number of credit and debit card issuers during the 3-year clearance period.

FTC staff believes that each of the 36 new entrants will spend approximately 4 hours developing and implementing policies and procedures to assess the validity of a change of address request. Additionally, FTC staff believes that existing card issuers will likely already have automated the process of notifying the cardholder or are using other means to assess the validity of the change of address, such that implementation will pose no further burden. However, in order to provide a conservative estimate, FTC staff will assume that each existing card issuer will spend approximately one hour each year reviewing and maintaining policies and procedures in order to assess the validity of a change of address request.

Accordingly, FTC staff anticipates that card issuers will incur the following burden:

• 36 new credit and debit card issuers under the FTC's jurisdiction, at an annual average burden of approximately 4 hours per entity, for an annual total of 144 hours.

• 18,464 existing credit and debit card issuers subject to the FTC's jurisdiction, at an average annual burden of approximately 1 hour per entity, for an annual total of 18,464 hours.

• In total, 18,500 credit and debit card issuers subject to the FTC's jurisdiction, for an annual total of 18,608 hours.

3. Address Discrepancy Rule: 21,747 Hours.

Affected Public: Users of consumer reports that are motor vehicle dealers described in section 1029(a) of the Dodd-Frank Wall Street Reform and Consumer Protection Act (the Dodd-Frank Act), 12 U.S.C. 5519, and that are predominantly engaged in the sale and servicing of motor vehicles, the leasing and servicing of them, or both (below, referenced as “users”).

As discussed above, the Address Discrepancy Rule provides guidance on reasonable policies and procedures that a user of consumer reports must employ when a user receives a notice of address discrepancy from a consumer reporting agency. The FTC Address Discrepancy Rule covers only users of consumer reports that are motor vehicle dealers described in section 1029(a) of the Dodd-Frank Act and that are predominantly engaged in the sale and servicing of motor vehicles, the leasing and servicing of them, or both.

Assuming that every covered motor vehicle dealer is a user of consumer reports, FTC staff estimates that the Address Discrepancy Rule currently affects approximately 52,211 entities. FTC staff further estimates that there are approximately 2,737 new entrants each year, representing motor vehicle dealers that have not previously implemented procedures to comply with this Rule. Thus, in order to account for the fact that the number of entities that are subject to the FTC's Address Discrepancy Rule will increase during the 3-year clearance period, this burden analysis relies on the average count of entities that will be subject to the Rule during the 3-year clearance period (54,948).

For the 2,737 new entrants, FTC staff estimates that it would take an infrequent user of consumer reports no more than 16 minutes to develop and follow the policies and procedures that it will employ when it receives a notice of address discrepancy, whereas a frequent user may take 1 hour. Taking into account these extremes, FTC staff estimates that, during the first year of the clearance, for the 2,737 new entrants, it will take users of consumer reports an average of 38 minutes (the average of 16 minutes and 60 minutes) to develop and comply with the policies and procedures that they will employ when they receive a notice of address discrepancy.

FTC staff assumes that the 52,211 existing motor vehicle dealers will already have developed the necessary compliance policies and procedures, and will only incur a burden in complying with those policies and procedures. Specifically, FTC staff estimates that it may take an infrequent user of consumer reports no more than 1 minute to comply with the policies and procedures that it will employ when it receives a notice of address discrepancy, whereas a frequent user of consumer reports may take 45 minutes. FTC staff estimates that the average annual burden for the 52,211 existing motor vehicle dealers will be 23 minutes (the average of one minute and 45 minutes).

Thus, for the 2,737 new entrants, the average annual burden for each of them to perform these collective tasks will be 38 minutes; cumulatively, 1,733 hours. For the 52,211 existing motor vehicle dealers, the average annual burden for each of them to perform these collective tasks will be 23 minutes; cumulatively, 20,014 hours. Collectively, the total burden for the 54,948 motor vehicle dealers will be 21,747 hours.¹⁷

¹⁷ The above-noted customer verification requirements and the estimate of 21,747 hours concern 16 CFR 641.1(c). In addition, 16 CFR 641.1(d) requires users that (1) furnish a consumer's address to a consumer reporting agency, and (2) have established a continuing relationship with the consumer, to develop and implement reasonable policies and procedures for furnishing an address for the consumer that the user has reasonably confirmed is accurate. The FTC previously estimated that the cumulative burden hours associated with 16 CFR 641.1(d) would be de minimis. Thus, the estimate above concerns solely 16 CFR 641.1(c).

4. Combined Annual Burden Hours

Based on the foregoing, FTC staff estimates that the 238,942 entities subject to the Red Flags, Card Issuers, and Address Discrepancy Rules (165,494 for Red Flags Rule + 18,500 for Card Issuers Rule + 54,948 for Address Discrepancy Rule) will incur a total annual burden of 398,479 hours (358,124 hours for Red Flags Rule + 18,608 hours for Card Issuers Rule + 21,747 hours for Address Discrepancy Rule).

II. Estimated Annual Labor Cost: $22,350,652

1. Section 114—Red Flags and Card Issuers Rules: $21,850,471.

FTC staff derived labor costs by applying appropriate estimated hourly cost figures to the burden hours described above. It is difficult to calculate the labor costs associated with the Rules with precision, as they entail varying compensation levels of management and/or technical staff among companies of different sizes. In calculating the cost figures, FTC staff assumes that entities' professional technical personnel and/or managerial personnel will create and implement the Program, prepare the annual report, train employees, and assess the validity of a change of address request at an hourly rate of $58.¹⁸

¹⁸ This estimate is based on mean hourly wages rates found at https://www.bls.gov/news.release/pdf/ocwage.pdf (“Bureau of Labor Statistics, Occupational Employment and Wages—May 2023,” April 3, 2024, Table 1, “National employment and wage data from the Occupational Employment and Wage Statistics survey by occupation, May 2023”) for the various managerial and technical staff support exemplified above (administrative service managers, computer and information systems managers, training and development managers, computer systems analysts, network and computer systems analysts, computer support specialists) (hereinafter “BLS Table 1”).

Based on the above estimates and assumptions, the total annual labor costs for all categories of covered entities under the Red Flags and Card Issuers Rules for section 114 is $21,850,471 (376,732 hours × $58).

2. Section 315—Address Discrepancy Rule: $500,181.

FTC staff assumes that the policies and procedures for compliance with the Address Discrepancy Rule will be set up by administrative support personnel at an hourly rate of $23.¹⁹ Based on the above estimates and assumptions, the total annual labor cost for the two categories of burden under section 315 is $500,181 (21,747 hours × $23).

¹⁹ This estimate is based on mean hourly wage rate for office and administrative support occupations found within BLS Table 1 (see supra note 19), rounded to the nearest whole dollar amount.

3. Combined Annual Labor Costs

Based on the foregoing, FTC staff estimates that the Red Flags, Card Issuers, and Address Discrepancy Rules will result in total annual labor costs of approximately $22,350,652 ($21,850,471 + $500,181).

III. Estimated Annual Capital/Non-Labor Costs: De Minimis

FTC staff believes that the Rules impose negligible capital or other non-labor costs, as the affected entities are likely to have the necessary supplies and/or equipment already (e.g., offices and computers) for the information collections described herein.

C. Request for Comment

Pursuant to Section 3506(c)(2)(A) of the PRA, the FTC invites comments on: (1) whether the disclosure and recordkeeping requirements are necessary, including whether the information will be practically useful; (2) the accuracy of our burden estimates, including whether the methodology and assumptions used are valid; (3) ways to enhance the quality, utility, and clarity of the information to be collected; and (4) ways to minimize the burden of the collection of information.

For the FTC to consider a comment, we must receive it on or before October 21, 2024. Your comment, including your name and your state, will be placed on the public record of this proceeding, including the https://www.regulations.gov website.

You can file a comment online or on paper. Due to heightened security screening, postal mail addressed to the Commission will be subject to delay. We encourage you to submit your comments online through the https://www.regulations.gov website.

If you file your comment on paper, write “Red Flags, Card Issuers, and Address Discrepancy Rules; PRA Comment: FTC File No. P072108” on your comment and on the envelope, and mail it to the following address: Federal Trade Commission, Office of the Secretary, 600 Pennsylvania Avenue NW, Suite CC-5610 (Annex J), Washington, DC 20580.

Because your comment will become publicly available at https://www.regulations.gov, you are solely responsible for making sure that your comment does not include any sensitive or confidential information. In particular, your comment should not include any sensitive personal information, such as your or anyone else's Social Security number; date of birth; driver's license number or other state identification number, or foreign country equivalent; passport number; financial account number; or credit or debit card number. You are also solely responsible for making sure that your comment does not include any sensitive health information, such as medical records or other individually identifiable health information. In addition, your comment should not include any “trade secret or any commercial or financial information which . . . is privileged or confidential”—as provided by Section 6(f) of the FTC Act, 15 U.S.C. 46(f), and FTC Rule 4.10(a)(2), 16 CFR 4.10(a)(2)—including, in particular, competitively sensitive information, such as costs, sales statistics, inventories, formulas, patterns, devices, manufacturing processes, or customer names.

Comments containing material for which confidential treatment is requested must (1) be filed in paper form, (2) be clearly labeled “Confidential,” and (3) comply with FTC Rule 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

The FTC Act and other laws that the Commission administers permit the collection of public comments to consider and use in this proceeding as appropriate. The Commission will consider all timely and responsive public comments that it receives on or before October 21, 2024. For information on the Commission's privacy policy, including routine uses permitted by the Privacy Act, see https://www.ftc.gov/site-information/privacy-policy.

Josephine Liu,
Assistant General Counsel for Legal Counsel.

[FR Doc. 2024-18772 Filed 8-21-24; 8:45 am]

BILLING CODE 6750-01-P